Postal Service

39 CFR Part 20

International Mail: New Postal Rates and Fees

Correction

In rule document 05-23007 beginning on page 70964 in the issue of Wednesday, November 23, 2005, make the following correction:

PART 20—[CORRECTED]

On page 70969, the table titled “AIRMAIL PARCEL POST” is corrected in part to read as follows:

Airmail Parcel Post
Weight not over (lbs.) | Group 6 | Group 7 | Group 8 | Group 9 | Group 10 | Group 11 | Group 12 | Group 13
* * * * * * *
8 | 33.15 | 38.20 | 42.65 | 46.70 | 37.40 | 46.90 | 30.30 | 39.80
* * * * * * *
12 | 45.35 | 50.85 | 59.10 | 63.15 | 50.05 | 61.65 | 40.85 | 53.50
13 | 48.45 | 54.00 | 63.20 | 67.25 | 53.25 | 65.35 | 43.50 | 56.90
* * * * * * *
43 | 140.15 | 148.90 | 186.50 | 190.55 | 148.10 | 176.00 | 122.55 | 159.70
* * * * * * *

[FR Doc. C5-23007 Filed 11-29-05; 8:45 am]

BILLING CODE 1505-01-D